DEPARTMENT OF COMMERCE

International Trade Administration

[C-489-819]

Steel Concrete Reinforcing Bar From the Republic of Turkey: Final Results and Partial Rescission of Countervailing Duty Administrative Review; 2016

AGENCY: Enforcement and Compliance, International Trade Administration, Department of Commerce.

SUMMARY: The Department of Commerce (Commerce) determines that Colakoglu Dis Ticaret A.S. (COTAS) and Colakoglu Metalurji A.S. (Colakoglu Metalurji) (collectively, Colakoglu), Icdas Celik Enerji Tersane ve Ulasim Sanayi A.S. (Icdas), and Kaptan Demir Celik Endustrisi ve Ticaret A.S. (Kaptan Demir) and Kaptan Metal Dis Ticaret Ve Nakliyat A.S. (Kaptan Metal) (collectively, Kaptan), producers and/or exporters of steel concrete reinforcing bar (rebar) from the Republic of Turkey (Turkey), received countervailable subsidies during the period of review (POR) January 1, 2016 through December 31, 2016. This review also covered 11 companies not individually examined, which Commerce determines received net countervailable subsidies during the POR. In addition, Commerce is rescinding the review with respect to DufEnergy Trading SA (DufEnergy), Duferco Celik Ticaret Limited (Duferco), Ekinciler Demir ve Celik Sanayi A.S. (Ekinciler), and Habas Sinai ve Tibbi Gazlar Istihsal Endustrisi A.S. (Habas).

DATES: Applicable July 26, 2019.

FOR FURTHER INFORMATION CONTACT: Mark Hoadley or Caitlin Monks, AD/CVD Operations, Office VII, Enforcement and Compliance, International Trade Administration, U.S. Department of Commerce, 1401 Constitution Avenue NW, Washington, DC 20230; telephone: (202) 482-3148 and (202) 482-2670, respectively.

Background

Commerce published the Preliminary Results of this administrative review on December 10, 2018.¹ For a history of events that occurred since the Preliminary Results, see the Issues and Decision Memorandum.² Commerce exercised its discretion to toll all deadlines affected by the partial federal government closure from December 22, 2018 through the resumption of operations on January 29, 2019.³ On March 27, 2019, Commerce extended the deadline for the final results of this administrative review until July 18, 2019.⁴

¹ See Steel Concrete Reinforcing Bar from the Republic of Turkey: Preliminary Results of Countervailing Duty Administrative Review and Intent to Rescind the Review in Part; 2016, 83 FR 63472 (December 10, 2018) (Preliminary Results), and accompanying Preliminary Decision Memorandum (PDM).

² See Memorandum, “Issues and Decision Memorandum for the Final Results of the Countervailing Duty Administrative Review of Steel Concrete Reinforcing Bar from the Republic of Turkey; 2016,” dated concurrently with, and hereby adopted by, this notice (Issues and Decision Memorandum).

³ See Memorandum, “Deadlines Affected by the Partial Shutdown of the Federal Government,” dated January 28, 2019.

⁴ See Memorandum, “Steel Concrete Reinforcing Bar from the Republic of Turkey: Extension of Deadline for Final Results in 2016 Countervailing Duty Administrative Review,” dated March 27, 2019.

Scope of the Order ⁵

⁵ See Steel Concrete Reinforcing Bar from the Republic of Turkey: Countervailing Duty Order, 79 FR 65926 (November 6, 2014) (Order).

The merchandise covered by the Order is rebar imported in either straight length or coil form regardless of metallurgy, length, diameter, or grade. For a complete description of the scope, see attachment to the Issues and Decision Memorandum.

Analysis of Comments Received

All issues raised in interested parties' briefs are addressed in the Issues and Decision Memorandum. A list of the issues raised by interested parties, and to which we responded in the Issues and Decision Memorandum, is provided in the Appendix to this notice. The Issues and Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Issues and Decision Memorandum can be accessed directly at http://enforcement.trade.gov/frn/. The signed and electronic versions of the Issues and Decision Memorandum are identical in content.

Methodology

Commerce conducted this administrative review in accordance with section 751(a)(1)(A) of the Tariff Act of 1930, as amended (the Act). For each of the subsidy programs found countervailable, we determine that there is a subsidy, i.e., a government-provided financial contribution that gives rise to a benefit to the recipient, and that the subsidy is specific.⁶ For a full description of the methodology underlying all of Commerce's conclusions, see the Issues and Decision Memorandum.

⁶ See sections 771(5)(B) and (D) of the Act regarding financial contribution; section 771(5)(E) of the Act regarding benefit; and section 771(5A) of the Act regarding specificity.

Partial Rescission of Review

DufEnergy, Duferco, and Ekinciler each timely filed a no-shipments certification.⁷ U.S. Customs and Border Protection (CBP) did not provide to Commerce any information that contradicted these no-shipments certifications. Consequently, in the Preliminary Results, Commerce announced its intent to rescind the reviews of DufEnergy, Duferco, and Ekinciler. No interested party submitted comments on Commerce's intent to rescind the reviews of DufEnergy, Duferco, and Ekinciler. Because there is no evidence on the record to indicate that DufEnergy, Duferco, or Ekinciler had entries, exports, or sales of subject merchandise to the United States during the POR, pursuant to 19 CFR 351.213(d)(3), we are rescinding the review with respect to these companies.

⁷ See DufEnergy's Letter, “Steel Concrete Reinforcing Bar from Turkey; No Shipments Letter for DufEnergy Trading SA (formerly known as Duferco Investment Services SA),” dated January 29, 2018; Duferco's Letter, “Steel Concrete Reinforcing Bar from Turkey; No Shipments Letter for Duferco Celik Ticaret Limited,” dated January 29, 2018; and Ekinciler's Letter, “Hot-Rolled Steel Products from Turkey (C-489-819): Countervailing Duty Administrative Review (01/01/16-12/31/16),” dated January 24, 2018.

Entries of merchandise produced and exported by Habas are not subject to countervailing duties because Commerce's final determination of the investigation with respect to this producer/exporter combination was negative.⁸ However, any entries of merchandise produced by any other entity and exported by Habas, or produced by Habas and exported by another entity, are subject to this Order.

⁸ See Steel Concrete Reinforcing Bar from the Republic of Turkey: Final Affirmative Countervailing Duty Determination and Final Affirmative Critical Circumstances Determination, 79 FR 54963 (September 15, 2014) (Turkey Rebar Final Determination).

No interested party submitted comments on Commerce's intent to rescind the review of Habas. Because there is no evidence on the record of entries of merchandise produced by another entity and exported by Habas, or entries of merchandise produced by Habas and exported by another entity, we determine that Habas is not subject to this administrative review. Therefore, pursuant to 19 CFR 351.213(d)(3), we are rescinding the review with respect to Habas.

Final Results of the Review

In accordance with 19 CFR 351.221(b)(5), we determine the following net countervailable subsidy rates exist for the period January 1, 2016 through December 31, 2016:

Company | Subsidy rate ad valorem (percent)
Icdas Celik Enerji Tersane ve Ulasim Sanayi A.S. and its cross-owned affiliates ⁹ | 2.76
Kaptan Demir Celik Endustrisi ve Ticaret A.S. and Kaptan Metal Dis Ticaret ve Nakliyat A.S. and their cross-owned affiliates ¹⁰ | * 0.22 (de minimis)
Colakoglu Dis Ticaret A.S. and Colakoglu Metalurji A.S. and their cross-owned affiliates ¹¹ | 1.82
Acemar International Limited | 2.29
Agir Haddecilik A.S | 2.29
As Gaz Sinai ve Tibbi Gazlar A.S | 2.29
Asil Celik Sanayi ve Ticaret A.S | 2.29
Ege Celik Endustrisi Sanayi ve Ticaret A.S | 2.29
Izmir Demir Celik Sanayi A.S | 2.29
Kocaer Haddecilik Sanayi Ve Ticar L | 2.29
Mettech Metalurji Madencilik Muhendislik Uretim Danismanlik ve Ticaret Limited Sirketi | 2.29
MMZ Onur Boru Profil A.S | 2.29
Ozkan Demir Celik Sanayi A.S | 2.29
Wilmar Europe Trading BV | 2.29
* (de minimis)

Disclosure

⁹ Commerce finds the following companies to be cross-owned with Icdas: Mardas Marmara Deniz Isletmeciligi A.S., Oraysan Insaat Sanayi ve Ticaret A.S., Artmak Denizcilik Ticaret ve Sanayi A.S., and Icdas Elektrik Enerjisi Uretim ve Yatirim A.S.

¹⁰ Commerce finds the following companies to be cross-owned with Kaptan: Martas Marmara Ereglisi Liman Tesisleri A.S., Aset Madencilik A.S., and Kaptan Is Makinalari Hurda Alim Satim Ltd. Sti.

¹¹ Commerce finds the following company to be cross-owned with Colakoglu: Demirsan Haddecilik San. Ve Tic. A.S.

We will disclose to the parties in this proceeding the calculations performed for these final results within five days of the date of publication of this notice in the Federal Register.¹²

¹² See 19 CFR 351.224(b).

Assessment and Cash Deposit Requirements

In accordance with 19 CFR 351.212(b)(2), Commerce intends to issue assessment instructions to CBP 15 days after the date of publication of these final results of review to liquidate shipments of subject merchandise entered, or withdrawn from warehouse, for consumption on or after January 1, 2016 through December 31, 2016, for the above-listed companies at the ad valorem assessment rates listed, except for those companies to which a de minimis rate is assigned. Concerning those companies with a de minimis rate, Commerce intends to issue assessment instructions to CBP to liquidate shipments of subject merchandise entered, or withdrawn from warehouse, for consumption on or after January 1, 2016 through December 31, 2016, without regard to countervailing duties. Concerning those companies with a de minimis rate, Commerce intends to issue assessment instructions to CBP to liquidate shipments of subject merchandise entered, or withdrawn from warehouse, for consumption on or after January 1, 2016 through December 31, 2016, without regard to countervailing duties.

Commerce also intends to instruct CBP to collect cash deposits of estimated countervailing duties in the amounts shown for each of the respective companies listed above, except, where the rate calculated in these final results is de minimis, no cash deposit will be required on shipments of the subject merchandise entered or withdrawn from warehouse, for consumption on or after the date of publication of the final results of this review. For all non-reviewed firms, we will instruct CBP to collect cash deposits of estimated countervailing duties at the most recent company-specific or all others rate applicable to the company, as appropriate. These cash deposit requirements, effective upon publication of these final results, shall remain in effect until further notice.

Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of review in accordance with sections 751(a)(1) and 777(i)(1) of the Act, 19 CFR 351.213(d)(4), and 19 CFR 351.221(b)(5).

Dated: July 18, 2019.
Jeffrey I. Kessler,
Assistant Secretary for Enforcement and Compliance.

Appendix

List of Topics Discussed in the Issues and Decision Memorandum

I. Summary

II. Background

III. Scope of the Order

IV. Partial Rescission of the 2016 Administrative Review

V. Non-Selected Rate

VI. Subsidies Valuation Information

VII. Use of Facts Otherwise Available with Adverse Inferences

VIII. Analysis of Programs

VIII. Discussion of the Issues

Comment 1: Whether Commerce Should Modify the Benchmark Used for the Provision of Natural Gas for Less Than Adequate Remuneration (LTAR)

Comment 2: Whether Commerce Should Countervail the Provision of Preferential Financing from the Industrial Development Bank of Turkey (TSKB)

Comment 3: Whether Commerce Should Adjust Icdas Celik Enerji Tersane ve Ulasim Sanayi A.S. (Icdas)' Reported Sales Denominator

Comment 4: Whether Commerce Should Revise its Uncreditworthiness Finding with Respect to Icdas Elektrik

Comment 5: Whether Commerce Should Recalculate the Subsidy Attributed to Icdas Under the Renewable Energy Sources Support Mechanism (YEKDEM) Program

Comment 6: Whether Commerce Should Adjust the Calculation of Icdas' Benefit Under the Investment Incentives Program

IX. Recommendation

[FR Doc. 2019-15824 Filed 7-25-19; 8:45 am]

BILLING CODE 3510-DS-P